ENVIRONMENTAL PROTECTION AGENCY

40 CFR Part 52

[VA159-5083a; FRL-7805-7]

Approval and Promulgation of Air Quality Implementation Plans;Virginia; Revision of Flow Control Date in Nitrogen Oxides Budget Trading Program

Correction

In rule document 04-19432 beginning on page 52174 in the issue of Wednesday, August 25, 2004 make the following correction:

§52.2420 [Corrected]

On page 52176, §52.2420(c), the table should read as set forth:

§ 52.2420 Identification of plan.

* * * * *

(c) EPA approved regulations.

EPA-APPROVED REGULATIONS IN THE VIRGINIA SIP
State citation (9 VAC 5) | Title/subject | State effective date | EPA approval date | Explanation [former SIP citation]
* * * * * * *
Chapter 140 | NOX Budget Trading Program [Part I]
Part I Emission Standards
* * * * * * *
Article 6 | NOX Allowance Tracking System
* * * * * * *
5-140-550 | Banking | March 24, 2004 | August 25, 2004 [Insert Federal Register page citation]
* * * * * * *

[FR Doc. C4-19432 Filed 9-1-04; 8:45 am]

BILLING CODE 1505-01-D